DEPARTMENT OF TRANSPORTATION

Federal Aviation Administration

Third Meeting: RTCA Special Committee 229, 406 MHz Emergency Locator Transmitters (ELTs) Joint With EUROCAE WG-98 Committee

AGENCY: Federal Aviation Administration (FAA), U.S. Department of Transportation (DOT).

ACTION: Third Meeting 406 MHz Emergency Locator Transmitters (ELTs) Joint with EUROCAE WG-98 Committee.

SUMMARY: The FAA is issuing this notice to advise the public of the third meeting of the 406 MHz Emergency Locator Transmitters (ELTs) Joint with EUROCAE WG-98 Committee.

DATES: The meeting will be held January 13-15, 2015 from 9:00 a.m.-5:00 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org or you may contact Sophie Bousquet, sobousquet@rtca.org, 202-330-0663.

SUPPLEMENTARY INFORMATION: Pursuant to section 10(a)(2) of the Federal Advisory Committee Act (Pub. L. 92-463, 5 U.S.C., App.), notice is hereby given for a meeting of Special Committee 224. The agenda will include the following:

Tuesday January 13th 2015

• Welcome/Introductions/Administrative Remarks

• Agenda overview and approval

• Minutes Toulouse meeting review and approval

• Briefing of ICAO and COSPAS-SARSAT activities

• WG 1 to 4 status and week's plan

• Other Industry coordination and presentations (if any)

• WG meetings (rest of the day)

Wednesday January 14th 2015

• WG 1 to 4 meetings

Thursday January 15th 2015

• WGs' reports

• Action item review

• Future meeting plans and dates

• Industry coordination and presentations (if any)

• Other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 16, 2014.
Mohannad Dawoud,
Management Analyst, NextGen, Business Operations Group, Federal Aviation Administration.

[FR Doc. 2014-25157 Filed 10-22-14; 8:45 am]

BILLING CODE 4910-13-P